DEPARTMENT OF ENERGY

Federal Energy Regulatory Commission

[Project No. 2484-016]

Gresham Municipal Utilities; Notice of Application for Amendment of License and Soliciting Comments, Motions To Intervene, and Protests

July 28, 2010.

Take notice that the following application has been filed with the Commission and is available for public inspection:

a. Application Type: Amendment of License to Accelerate License Expiration Date.

b. Project No: 2484-016.

c. Date Filed: June 10, 2010.

d. Applicant: Gresham Municipal Utilities.

e. Name of Project: Upper Red Lake Dam Hydroelectric Project.

f. Location: On the Red River, in Shawano County, Wisconsin.

g. Filed Pursuant to: Federal Power Act, 16 U.S.C. 791a-825r.

h. Applicant Contact: Art Bahr, Village Administrator/Utility Manager, Village of Gresham, 1126 Main Street, P.O. Box 50, Gresham, WI 54128, (715) 787-3994; and Arie DeWaal, Senior Project Manager, Mead & Hunt, Inc., 6501 Watts Road, Madison, WI 53719, (608) 273-6380.

i. FERC Contact: Jake Tung, (202) 502-8757, and e-mail: hong.tung@ferc.gov.

j. Deadline for filing comments, motions to intervene, and protest: August 30, 2010. Comments, motions to intervene, and protests may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings, please go to the Commission's Web site located at http://www.ferc.gov/filing-comments.asp.

k. Description of Request: The licensee proposes to amend the license for the Upper Red Lake Dam Hydroelectric Project to accelerate the expiration date of the license. The current expiration date of the license is December 31, 2018. The licensee requests the Commission to issue an order accelerating the expiration date of the license to not less than 5 years and 90 days from the date of the Commission order. The reasons for the request follow: (1) The licensee also operates the Weed Dam Hydroelectric Project (FERC Project No. 2464), which is located immediately downstream from the Upper Red Lake Dam Project; (2) the current license for the Weed Dam Project expires June 30, 2015, and the licensee will file a subsequent license application no later than June 30, 2013; and (3) the licensee would like to combine the relicensing activities since the two projects are small in size, approximate in location, and only three and one-half years apart in license expiration date, which would result in substantial savings to the licensee and more effective consultation with resources agencies and other stakeholders.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number (P-2484) excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filling and Service of Responsive Documents—All filings must bear in all capital letters the title “COMMENTS”, “PROTEST”, or “MOTION TO INTERVENE”, as applicable, and the Project Number of the particular application to which the filing refers.

p. Agency Comments: Federal, State, and local agencies are invited to file comments on the described application. A copy of the application may be obtained by agencies directly from the Applicant. If an agency does not file comments within the time specified for filing comments, it will be presumed to have—no comments. One copy of an agency's comments must also be sent to the Applicant's representatives.

Kimberly D. Bose,
Secretary.

[FR Doc. 2010-19087 Filed 8-3-10; 8:45 am]

BILLING CODE 6717-01-P